DEPARTMENT OF COMMERCE

National Institute of Standards and Technology

National Artificial Intelligence Advisory Committee

AGENCY: National Institute of Standards and Technology, Department of Commerce.

ACTION: Notice of Federal Advisory Committee open meeting.

SUMMARY: The National Institute of Standards and Technology (NIST) announces that the National Artificial Intelligence Advisory Committee (NAIAC or Committee) will hold an open meeting on Wednesday, May 4, 2022 from 1:00 p.m. to 3:00 p.m. Eastern Daylight Time. The primary purpose of the meeting is for the NAIAC members to discuss how to organize to address the current state of U.S. competitiveness, the state of the science around Artificial Intelligence (AI), issues related to workforce and the potential to use AI for workforce training, government operations, whether societal issues are adequately being addressed, international coordination, oversight of AI systems, and enhancing opportunities for diverse geographic regions of the United States. The agenda may change to accommodate Committee business. The final agenda will be posted to the NAIAC website: https://www.ai.gov/naiac/.

DATES: The meeting will be held on Wednesday, May 4, 2022 from 1:00 p.m. to 3:00 p.m. Eastern Daylight Time.

ADDRESSES: The meeting will be open to the public via webcast. Registration will be required; for instructions on how to register, please see the SUPPLEMENTARY INFORMATION section of this notice. NAIAC members may attend the meeting via webcast or in-person at the U.S. Department of Commerce, 1401 Constitution Avenue NW, Washington, DC 20230.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245.

SUPPLEMENTARY INFORMATION: Pursuant to the Federal Advisory Committee Act, as amended, 5 U.S.C. spp., notice is hereby given that the National Artificial Intelligence Advisory Committee (the NAIAC or the Committee) will hold an open meeting on Wednesday, May 4, 2022, from 1:00 p.m. to 3:00 p.m. Eastern Daylight Time.

The NAIAC is authorized by Section 5104 of the National Artificial Intelligence Initiative Act of 2020 (Pub. L. 116-283), in accordance with the provisions of the Federal Advisory Committee Act, as amended (FACA), 5 U.S.C. app. The Committee advises the President and the National Artificial Intelligence Initiative Office on matters related to the National Artificial Intelligence Initiative. Additional information on the NAIAC is available at https://www.ai.gov/naiac/.

Agenda: The meeting agenda will include a discussion on how the NAIAC members will organize to address the current state of U.S. competitiveness, the state of the science around Artificial Intelligence (AI), issues related to workforce and the potential to use AI for workforce training, government operations, whether societal issues are adequately being addressed, international coordination, oversight of AI systems, and enhancing opportunities for diverse geographic regions of the United States. The agenda will also include establishment of the statutorily mandated Subcommittee on Law Enforcement and Artificial Intelligence. The agenda may change to accommodate Committee business. The final agenda will be posted on the NAIAC website at https://www.ai.gov/naiac/.

Comments: Individuals and representatives of organizations who would like to offer comments and suggestions or ask questions related to the NAIAC's business are invited to submit comments and questions in advance of the meeting. Written comments and questions may be submitted to the DFO, Melissa Banner, via email to: melissa.banner@nist.gov with the subject line “May 4 NAIAC Meeting Comments” in either Adobe Acrobat or Microsoft Word format. Comments and questions must be received by 5:00 p.m. Eastern Daylight Time, Thurday, April 28, 2022 to be considered. The DFO will compile all written submissions and provide them to the NAIAC members for consideration. Please note that all submitted comments will be treated as public documents and will be made available for public inspection.

Approximately 15 minutes will be reserved for NAIAC members to address public comments and questions. The time that the members will address public comments will be included in the final agenda that will be posted at https://www.ai.gov/naiac/.

Admittance Instructions: Anyone wishing to attend this meeting via webcast must register via the registration link at https://www.ai.gov/naiac/ by 5:00 p.m. Eastern Daylight Time, Thursday, April 28, 2022.

Alicia Chambers,
NIST Executive Secretariat.

[FR Doc. 2022-08319 Filed 4-18-22; 8:45 am]

BILLING CODE 3510-13-P